Federal Register Format Changes

EDITOR'S NOTE: The Office of the Federal Register is republishing the following document in a special format to illustrate proposed changes to the appearance of the printed and PDF pages of the daily Federal Register. This experimental format uses a two-column layout, sans serif fonts, larger and bolder headings in the preamble and tables, bullets in the Summary, more space between lines of regulatory text, and makes other changes to the appearance of text and tables. The format changes are intended to improve the readability and public understanding of Federal regulations and notices without increasing white space that would affect printing costs charged to agencies. The proposed format would result in no change or a slight decrease in the number of pages printed. The format changes shown below do not affect the legal status of the final rule issued by the National Archives and Records Administration.

We invite agencies and members of the public to comment on the proposed format by email at: fedreg.legal@nara.gov, or by U.S. mail at: National Archives and Records Administration, Office of the Federal Register (NF), Federal Register Format Changes, 700 Pennsylvania Ave., NW, Washington, DC 20408-0001. For more information the proposed format, go to the Federal Register web site at: http://www.nara.gov/fedreg/plainlan.html#top.

NATIONAL ARCHIVES AND RECORDS ADMINISTRATION

36 CFR Part 1230

RIN 3095-AB06

Micrographic Records Management

AGENCY: National Archives and Records Administration (NARA).

ACTION: Final rule.

SUMMARY: NARA is revising its Micrographic Records Management regulations to:

• Update the editions of standards incorporated by reference to the most current edition; and

• Rewrite the regulations in plain language format.

This final rule will affect Federal agencies.

DATES: This rule is effective June 10, 2002. The incorporation by reference of certain publications listed in this rule is approved by the Director of the Federal Register as of June 10, 2002.

FOR FURTHER INFORMATION CONTACT: Kim Richardson at telephone number 301-713-7360, ext. 240, or fax number 301-713-7270.

SUPPLEMENTARY INFORMATION: NARA published a proposed rule on September 11, 2001, at 66 FR 47125, for a 60-day public comment period. We received comments from 2 Federal agencies, 1 records management professional organization, and 2 members from the public. Following is a summary of the comments and a discussion of the changes that we made to the proposed rule.

Terminology (§§ 1230.4 and 1230.7(f))

ARMA International (ARMA) recommended replacing the term “records schedule” with “records retention schedule” in § 1230.7(f) and defining the suggested term in § 1230.4, Definitions. We did not adopt this comment because “records schedule” is a standard records management term that is used throughout NARA regulations. The term does not need to be included in Part 1230 because it is already defined in 36 CFR 1220.14, which applies to the entire Subchapter B.

Discontinuing Filming Temporary Records (§ 1230.10)

A Federal agency asked if NARA would require agencies to request approval before discontinuing filming temporary records when the records, regardless of format, would be kept for the same period of time. Agencies are not required to request approval to film temporary records (§ 1230.10(b)) and the same is true for discontinuing microfilming temporary records. The principle, which has been in place for many years now, is that the nature and use of temporary records is not changed when the original paper is copied to microform.

Filming Requirements (§ 1230.14)

A Federal agency pointed out that § 1230.14 no longer includes the phrase “when the original paper records will be destroyed or otherwise disposed of,” though § 1230.22 still makes that distinction. We did not intend to change § 1230.14(a) when we reformatted the paragraph in plain language, and have added the phrase in this final rule. We also modified § 1230.14(a)(2) for clarity.

Using Dry Silver Film for Permanent Records (§ 1230.14)

A member from the public recommended that we consider revising the section to permit the use of dry silver film for filming permanent records. We did not adopt this change because for long-term retention, the dry-silver film is much riskier than the traditional silver-gelatin film.

• Dry silver film that meets the ISO standard has a life expectancy rating of only 100 years, while wet-processed silver-gelatin film with a polyester base has a higher life expectancy rating of 500 years.

• Dry silver film is never “fixed” meaning, it will remain potentially developable for an indefinite period of time. Fixing is the process of removing the light sensitive silver salts. This means if the film is ever exposed to high temperatures (e. g., 120 degrees Fahrenheit to 130 degrees Fahrenheit) such as with an air conditioner failure, the film will “develop” and turn completely black, causing a catastrophic loss of all the information on the film.

Quality Standards (§ 1230.14(d))

ARMA and a member from the public suggested adding a clause to the second sentence so that it will read as follows: “Perform resolution tests using a ISO 3334-1991 Resolution Test Chart or a commercially available certifiable target manufactured to comply with this standard, and read the patterns following the instructions of ISO 3334-1991.” We accept this comment and have incorporated the suggested clause.

Film and Image Requirements for Temporary Records (§ 1230.16(a))

ARMA recommended use of the ARMA glossary to define temporary records in this section. We did not adopt this comment. Section 1230.16(a) does not define “temporary records” but pertains to film and image requirements. We require that temporary records retained for 100 years or longer meet the same image requirements as permanent records. This is not a new requirement. It already exists in the current regulation.

Inspection Period (§ 1230.22(b))

ARMA suggested changing the inspection period from every 2 years to every 5 years because they believe the longer inspection period is sufficient under appropriate storage conditions and would be less costly. No Federal agency has objected to the 2-year inspection requirement that NARA selected.

We partially accept this comment. We believe that it is important to conduct an initial inspection when the microfilm is 2 years old to identify any problems that did not appear when the film was processed and to ensure that it is stored in the proper environment. Acetate-based microfilm stock, which was used prior to 1990, is more susceptible to deterioration than the polyester-based microfilm used today. Therefore, we are retaining the requirement for inspection every 2 years for microfilms produced before 1990. Unless there is a catastrophic event (e.g., extended failure of environmental controls), microfilms produced during or after 1990 must be inspected on a 5-year cycle after the initial 2-year inspection.

Percentage of Inspection Sampling (§ 1230.22(a))

ARMA commented that § 1230.22(a) does not indicate the percentage of inspection sampling that is required. They questioned whether inspection is to cover 100 percent of all rolls of film or a lesser sampling. They recommended a sampling of approximately 10 percent because it would provide a reliable inspection and help reduce costs incurred with the inspection process. They also recommended adding a separate section to address microfilm inspection procedures. We did not adopt these comments. There is no need for a change in language, since we believe that what ARMA is concerned about is adequately covered in ANSI/AIIM MS45-1990. That standard addresses both the proper sampling procedures (1/1000th of the group or 100 microforms, whichever is greater, or the whole group if less than 100 microforms) and the proper inspection procedures. No additional language is, therefore, required.

This final rule is not a significant regulatory action for the purposes of Executive Order 12866 and has not been reviewed by the Office of Management and Budget. As required by the Regulatory Flexibility Act, I certify that this rule will not have a significant impact on a substantial number of small entities. This rule does not have any federalism implications.

List of Subjects in 36 CFR Part 1230

Archives and records, Incorporation by reference.

For the reasons set forth in the preamble, NARA revises part 1230 of title 36, Code of Federal Regulations, to read as follows:

PART 1230—MICROGRAPHIC RECORDS MANAGEMENT

Subpart A—General
Sec.
1230.1 What does this part cover?
1230.2 What is the authority for this part?
1230.3 Publications incorporated by reference.
1230.4 Definitions.
Subpart B—Program Requirements
1230.7 What must agencies do to manage microform records?
Subpart C—Microfilming Standards
1230.10 Do agencies need to request NARA approval for the disposition of all microform and source records?
1230.12 What are the steps to be followed in filming records?
1230.14 What are the filming requirements for permanent and unscheduled records?
1230.16 What are the film and image requirements for temporary records, duplicates, and user copies?
Subpart D—Storage, Use and Disposition Standards of Microform Records
1230.20 How should microform records be stored?
1230.22 What are NARA inspection requirements for permanent and unscheduled microform records?
1230.24 What are NARA inspection requirements for temporary microform records?
1230.26 What are the use restrictions for permanent and unscheduled microform records?
1230.28 What must agencies do to send permanent microform records to a records storage facility?
1230.30 How do agencies transfer permanent microform records to the legal custody of the National Archives?
Subpart E—Centralized Micrographic Services
1230.50 What micrographic services are available from NARA?

Authority: 44 U.S.C. 2907, 3302 and 3312.

Subpart A—General

§ 1230.1 What does this part cover?

This part covers the standards and procedures for using micrographic technology to create, use, store, inspect, retrieve, preserve, and dispose of Federal records.§ 1230.2 What is the authority for this part?

44 U.S.C. chapters 29 and 33, authorize the Archivist of the United States to:

(a) Establish standards for copying records by photographic and microphotographic means;

(b) Establish standards for the creation, storage, use, and disposition of microform records in Federal agencies; and

(c) Provide centralized microfilming services for Federal agencies.

§ 1230.3 Publications incorporated by reference.

(a) General. The following publications are hereby incorporated by reference into Part 1230. They are available from the issuing organizations at the addresses listed in this section. They may also be examined at the Office of the Federal Register, 800 North Capitol Street NW, suite 700, Washington, DC. This incorporation by reference was approved by the Director of the Federal Register in accordance with 5 U.S.C. 552(a) and 1 CFR Part 51. These materials are incorporated as they exist on the date of approval, and a notice of any change in these materials will be published in the Federal Register.

(b) American National Standards Institute (ANSI) and International (ISO) standards. ANSI standards cited in this part are available from the American National Standards Institute, 25 West 43rd St., 4th Floor, New York, NY 10036. The standards can be ordered on line at http://webstore.ansi.org/ansidocstore/default.asp.

ISO 10602:1995(E), February 1, 1995, Second edition, Photography-Processed silver-gelatin type black-and-white film-Specifications for stability.

ANSI/PIMA IT9.2-1998, April 15, 1998, American National Standard for Imaging Materials—Photographic Processed Films, Plates, and Papers—Filing Enclosures and Storage Containers.

ANSI/ISO 5.2-1991, ANSI/NAPM IT2.19-1994, February 20, 1995, American National Standard for Photography—Density Measurements—Part 2: Geometric Conditions for Transmission Density.

ANSI/ISO 5-3-1995, ANSI/NAPM IT2.18-1996, March 8, 1996, American National Standard for Photography—Density Measurements—Part 3: Spectral Conditions.

ISO 18911: 2000(E), First edition, November 1, 2000, Imaging materials-Processed safety photographic films—Storage practices.

(c) Association of Information and Image Management (AIIM) Standards. You may obtain the following standards from the Association of Information and Image Management, 1100 Wayne Avenue, suite 1100, Silver Spring, MD 20910. The standards can be ordered on line at http://www.aiim.org/.

ANSI/AIIM MS1-1996, August 8, 1996, Standard Recommended Practice for Alphanumeric Computer-Output Microforms—Operational Practices for Inspection and Quality Control.

ANSI/AIIM MS5-1992, December 21, 1992, Standard for Information and Image Management-Microfiche.

ANSI/AIIM MS14-1996, August 8, 1996, Standard Recommended Practice-Specifications for 16mm and 35mm Roll Microfilm.

ANSI/AIIM MS19-1993, August 18, 1993, Standard Recommended Practice-Identification of Microforms.

ANSI/AIIM MS23-1998, June 2, 1998, Standard Recommended Practice-Production, Inspection, and Quality Assurance of First-Generation, Silver Microforms of Documents.

ANSI/AIIM MS32-1996, February 16, 1996, Standard Recommended Practice-Microrecording of Engineering Source Documents on 35mm Microfilm.

ANSI/AIIM MS41-1996, July 16, 1996, Dimensions of Unitized Microfilm Carriers and Apertures (Aperture, Camera, Copy and Image Cards).

ANSI/AIIM MS43-1998, June 2, 1998, Standard Recommended Practice-Operational Procedures-Inspection and Quality Control of Duplicate Microforms of Documents and From COM.

ANSI/AIIM MS45-1990, January 22, 1990, Recommended Practice for Inspection of Stored Silver-Gelatin Microforms for Evidence of Deterioration.

ANSI/ISO 3334-1991, ANSI/AIIM MS51-1991, May 10, 1991, Micrographics—ISO Resolution Test Chart No. 2—Description and Use.

§ 1230.4 Definitions.

The following definitions apply to this part:

Archival microfilm. A photographic film that meets the standards described in § 1230.14 and that is suitable for the preservation of permanent records when stored in accordance with § 1230.20(a). Such film must conform to film designated as LE 500 in ANSI/NAPM IT9.1-1996.

Background density. The opacity of the area of the microform not containing information.

Computer-assisted retrieval (CAR) system. A records storage and retrieval system, normally microfilm-based, that uses a computer for indexing, automatic markings such as blips or bar codes for identification, and automatic devices for reading those markings and, in some applications, for transporting the film for viewing.

Computer Output Microfilm (COM). Microfilm containing data converted and recorded from a computer.

Facility. An area used exclusively to make or copy microforms.

Microfilm. (1) Raw (unexposed and unprocessed) fine-grain, high resolution photographic film with characteristics that make it suitable for use in micrographics;

(2) The process of recording microimages on film; or

(3) A fine-grain, high resolution photographic film containing microimages.

Microform. Any form containing microimages.

Microimage. A document such as a page of text or a drawing that is too small to be read without magnification.

Permanent record. Permanent record has the meaning specified in § 1220.14 of this chapter.

Records storage facility. Records storage facility has the meaning specified in § 1220.14 of this chapter.

Temporary record. Temporary record has the meaning specified in § 1220.14 of this chapter.

Unscheduled record. Unscheduled record has the meaning specified in § 1220.14 of this chapter.

Use or work copies. Duplicates of original film made to be used for reference or for duplication on a recurring or large-scale basis. These are not preservation master copies, which must be stored unused as specified in § 1230.20.

Subpart B—Program Requirements

§ 1230.7 What must agencies do to manage microform records?

Federal agencies must manage microform records by taking the following actions:

(a) Assign responsibility for an agencywide program for managing microform records and notify the National Archives and Records Administration (NWM), 8601 Adelphi Rd., College Park, MD 20740-6001 of the name and title of the person assigned the responsibility.

(b) Manage the microform records as part of other records and information resources management programs of the agency.

(c) Include microform records management objectives, responsibilities, and authorities in pertinent agency directives and disseminate them to appropriate officials.

(d) Address records management issues, including disposition, before approving new microform records systems or enhancements to existing systems.

(e) Train the managers and users of microform records.

(f) Develop records schedules covering microform records and finding aids, secure NARA approval, and apply the disposition instructions.

(g) Schedule computerized indexes associated with microform records, such as in a computer-assisted retrieval (CAR) system, in accordance with part 1234 of this chapter.

(h) Review practices used to create and manage microform records periodically to ensure compliance with NARA standards in this part.

Subpart C—Microfilming Standards

§ 1230.10 Do agencies need to request NARA approval for the disposition of all microform and source records?

(a) Permanent or unscheduled records. Agencies must schedule both source documents (originals) and microforms. NARA must approve the schedule, Standard Form (SF) 115, Request for Records Disposition Authority, in accordance with part 1228 of this chapter before any records, including source documents, can be destroyed. NARA will not approve the destruction of original records that have intrinsic value, or security classified or otherwise restricted original records that are scheduled as permanent, or original records that are scheduled as permanent and that have other characteristics that would limit the usefulness of microform copies for public reference.

(1) Agencies that comply with the standards in § 1230.14 must include on the SF 115 the following certification: “This certifies that the records described on this form were (or will be) microfilmed in accordance with the standards set forth in 36 CFR part 1230.”

(2) Agencies using microfilming methods, materials, and procedures that do not meet the standards in § 1230.14(a) must include on the SF 115 a description of the system and standards used.

(3) When an agency intends to retain the silver original microforms of permanent records and destroy the original records, the agency must certify in writing on the SF 115 that the microform will be stored in compliance with the standards of § 1230.20 and inspected as required by § 1230.22.

(b) Temporary records. Agencies do not need to obtain additional NARA approval when destroying scheduled temporary records that have been microfilmed. The same approved retention period for temporary records is applied to microform copies of these records. The original records can be destroyed once microfilm is verified, unless legal requirements prevent their early destruction.

§ 1230.12 What are the steps to be followed in filming records?

(a) Ensure that the microforms contain all information shown on the originals and that they can be used for the purposes the original records served.

(b) Arrange, describe, and index the filmed records to permit retrieval of any particular document or component of the records. Title each microform roll or fiche with a titling target or header. For fiche, place the titling information in frame 1 if the information will not fit on the header. At a minimum, titling information must include:

(1) The title of the records;

(2) The number or identifier for each unit of film;

(3) The security classification, if any; and

(4) The name of the agency and organization the inclusive dates, names, or other data identifying the records to be included on a unit of film.

(c) Add an identification target showing the date of filming. When necessary to give the film copy legal standing, the target must also identify the person who authorized the microfilming. See ANSI/AIIM MS19-1993 for standards for identification targets.

(d) The following formats are mandatory standards for microforms:

(1) Roll film. (i)Source documents. The formats described in ANSI/AIIM MS14-1996 must be used for microfilming source documents on 16mm and 35mm roll film. A reduction ratio no greater than 1:24 is recommended for typewritten or correspondence types of documents. See ANSI/AIIM MS23-1998 for the appropriate reduction ratio and format for meeting the image quality requirements. When microfilming on 35mm film for aperture card applications, the format dimensions in ANSI/AIIM MS32-1996, Table 1 are mandatory, and the aperture card format “D Aperture” shown in ANSI/AIIM MS41-1996, Figure 1, must be used. The components of the aperture card, including the paper and adhesive, must conform to the requirements of ANSI/PIMA IT9.2-1998. The 35mm film used in the aperture card application must conform to film designated as LE 500 in ANSI/NAPM IT9.1-1996.

(ii) COM. Computer output microfilm (COM) generated images must be the simplex mode described in ANSI/AIIM MS14-1996 at an effective ratio of 1:24 or 1:48 depending upon the application.

(2) Microfiche. For microfilming source documents or computer generated information (COM) on microfiche, the formats and reduction ratios prescribed in ANSI/AIIM MS5-1992 (R1998) must be used as specified for the size and quality of the documents being filmed. See ANSI/AIIM MS23-1998 for determining the appropriate reduction ratio and format for meeting the image quality requirements.

(e) Index placement. (1)Source documents. When filming original (source) documents, place indexes, registers, or other finding aids, if microfilmed, either in the first frames of the first roll of film or in the last frames of the last roll of film of a series. For microfiche, place them in the last frames of the last microfiche or microfilm jacket of a series.

(2) COM. Place indexes on computer-generated microforms following the data on a roll of film or in the last frames of a single microfiche, or the last frames of the last fiche in a series. Other index locations may be used only if dictated by special system constraints.

§ 1230.14 What are the filming requirements for permanent and unscheduled records?

(a) General requirements. (1) Apply the standards in this section for microfilming of:

(i) Permanent paper records where the original paper record will be destroyed or otherwise disposed of;

(ii) Unscheduled paper records where the original paper record will be destroyed or otherwise disposed of; and

(iii) Permanent and unscheduled original microform records (no paper originals) produced by automation, such as computer output microfilm (COM).

(2) Do not destroy permanent or unscheduled paper records after microfilming without authorization from NARA on a SF 115 (see § 1230.10(a)).

(b) Film stock standards. Polyester-based silver gelatin type film that conforms to ANSI/NAPM IT9.1—1996 for LE 500 film must be used in all applications.

(c) Processing standards. Microforms must be processed so that the residual thiosulfate ion concentration will not exceed 0.014 grams per square meter in accordance with ANSI/NAPM IT9.1-1996. Follow processing procedures in ANSI/AIIM MS1-1996 and MS23-1998.

(d) Quality standards. (1) Resolution. (i) Source documents. Determine minimum resolution on microforms of source documents using the method in the Quality Index Method for determining resolution and anticipated losses when duplicating, as described in ANSI/AIIM MS23-1998 and MS43-1998. Perform resolution tests using a ISO 3334-1991 Resolution Test Chart or a commercially available certifiable target manufactured to comply with this standard, and read the patterns following the instructions of ISO 3334-1991. Use the smallest character used to display information to determine the height used in the Quality Index formula. A Quality Index of five is required at the third generation level.

(ii) COM. Computer output microforms (COM) must meet the requirements of ANSI/AIIM MS1-1996.

(2) Background density of images. The background ISO standard visual diffuse transmission density on microforms must be appropriate to the type of documents being filmed. The procedure for density measurement is described in ANSI/AIIM MS23-1998. The densitometer must meet with ANSI/NAPM IT2.18-1996, for spectral conditions and ANSI/NAPM IT2.19-1994, for geometric conditions for transmission density.

(i) Recommended visual diffuse transmission background densities for images of documents are as follows:

Classification | Description of document | Background density
Group 1 | High-quality, high contrast printed book, periodicals, and black typing. | 1.3-1.5
Group 2 | Fine-line originals, black opaque pencil writing, and documents with small high contrast printing. | 1.15-1.4
Group 3 | Pencil and ink drawings, faded printing, and very small printing, such as footnotes at the bottom of a printed page. | 1.0-1.2
Group 4 | Low-contrast manuscripts and drawing, graph paper with pale, fine-colored lines; letters typed with a worn ribbon; and poorly printed, faint documents. | 0.8-1.0
Group 5 | Poor-contrast documents (special exception). | 0.7-0.85

(ii) Recommended visual diffuse transmission densities for computer generated images are as follows:

Film Type | Process | Density Measurement Method | Min. Dmax¹ | Max. Dmin¹ | Minimum Density Difference
Silver gelatin | Conventional | Printing or diffuse | 0.75 | 0.15 | 0.60
Silver gelatin | Full reversal | Printing | 1.50 | 0.20 | 1.30
¹Character or line density, measured with a microdensitometer or by comparing the film under a microscope with an image of a known density.

(3) Base plus fog density of films. The base plus fog density of unexposed, processed films must not exceed 0.10. When a tinted base film is used, the density will be increased. The difference must be added to the values given in the tables in paragraph (d)(2) of this section.

(4) Line or stroke width. Due to optical limitations in most photographic systems, film images of thin lines appearing in the original document will tend to fill in as a function of their width and density. Therefore, as the reduction ratio of a given system is increased, reduce the background density as needed to ensure that the copies will be legible.

§ 1230.16 What are the film and image requirements for temporary records, duplicates, and user copies?

(a) Temporary records with a retention period over 99 years. Follow the film and image requirements in § 1230.14.

(b) Temporary records to be kept for less than 100 years. NARA does not require the use of specific standards. Select a film stock that meets agency needs and ensures the preservation of the microforms for their full retention period. Consult appropriate ANSI standards, available as noted in § 1230.3, or manufacturer's instructions for processing microfilm of these temporary records. Follow the manufacturer's recommendations for production and maintenance of temporary microfilm to ensure that the image is accessible and usable for the entire retention period.

Subpart D—Storage, Use and Disposition Standards for Microform Records

§ 1230.20 How should microform records be stored?

(a) Permanent and unscheduled records. Store permanent and unscheduled microform records under the extended term storage conditions specified in ISO 18911:2000 and ANSI/PIMA IT9.2-1998, except that the relative humidity of the storage area must be a constant 35 percent RH, plus or minus 5 percent. Do not store non-silver copies of microforms in the same storage area as silver gelatin originals or duplicate copies.

(b) Temporary records. Store temporary microform records under conditions that will ensure their preservation for their full retention period. Agencies may consult Life Expectance (LE) guidelines in ANSI/AIIM standards (see § 1230.3 for availability) for measures that can be used to meet retention requirements.

§ 1230.22 What are NARA inspection requirements for permanent and unscheduled microform records?

(a) Agencies must inspect, or arrange to pay a contractor or NARA to inspect the following categories of microform records stored at the agency, at a commercial records storage facility, or at a NARA records center following the inspection requirements in paragraph (b) of this section:

(1) Master films of permanent records microfilmed in order to dispose of the original records;

(2) Master films of permanent records originally created on microfilm;

(3) Other master films scheduled for transfer to the National Archives; and

(4) Master films of unscheduled records.

(b) The films listed in paragraph (a) of this section must be inspected initially in accordance with ANSI/AIIM MS45—1990. All films must be inspected when they are 2 years old. After the initial 2-year inspection, unless there is a catastrophic event, the films must be inspected as follows until legal custody is transferred to the National Archives and Records Administration:

(1) For microfilm that is/was produced after 1990, inspect the microfilm every 5 years.

(2) For microfilm that was produced prior to 1990, inspect the microfilm every 2 years.

(c) To facilitate inspection, the agency must maintain an inventory of microfilm listing each microform series/publication by production date, producer, processor, format, and results of previous inspections.

(d) The elements of the inspection shall consist of:

(1) An inspection for aging blemishes following ANSI/AIIM MS45-1990;

(2) A rereading of resolution targets;

(3) A remeasurement of density; and

(4) A certification of the environmental conditions under which the microforms are stored, as specified in § 1230.20(a).

(e) The agency must prepare an inspection report, and send a copy to NARA in accordance with § 1230.28(b). The inspection report must contain:

(1) A summary of the inspection findings, including:

(i) A list of batches by year that includes the identification numbers of microfilm rolls and microfiche in each batch;

(ii) The quantity of microforms inspected;

(iii) An assessment of the overall condition of the microforms;

(iv) A summary of any defects discovered, e.g., redox blemishes or base deformation; and

(v) A summary of corrective action taken.

(2) A detailed inspection log created during the inspection that contains the following information:

(i) A complete description of all records inspected (title; roll or fiche number or other unique identifier for each unit of film inspected; security classification, if any; and inclusive dates, names, or other data identifying the records on the unit of film);

(ii) The date of inspection;

(iii) The elements of inspection (see paragraph (a)(4) of this section);

(iv) Any defects uncovered; and

(v) The corrective action taken.

(f) If an inspection shows that a master microform is deteriorating, the agency must make a silver duplicate in accordance with § 1230.14 to replace the deteriorating master. The duplicate film will be subject to the inspection requirements (see § 1230.22) before transfer to a record center or to the National Archives.

(g) Inspection must be performed in an environmentally controlled area in accordance with ANSI/AIIM MS45-1990.

§ 1230.24 What are NARA inspection requirements for temporary microform records?

NARA recommends, but does not require, that agencies use the inspection by sampling procedures described in § 1230.22(a) and (b).

§ 1230.26 What are the use restrictions for permanent and unscheduled microform records?

(a) Do not use the silver gelatin original microform or duplicate silver gelatin microform of permanent or unscheduled records created in accordance with § 1230.14 of this part (archival microform) for reference purposes. Agencies must ensure that the archival microform remains clean and undamaged during the process of making a duplicating master.

(b) Use duplicates for:

(1) Reference;

(2) Further duplication on a recurring basis;

(3) Large-scale duplication; and

(4) Distribution of records on microform.

(c) Agencies retaining the original record in accordance with an approved records disposition schedule may apply agency standards for the use of microform records.

§ 1230.28 What must agencies do to send permanent microform records to a records storage facility?

(a) Follow the procedures in part 1228, subpart I, of this chapter and the additional requirements in this section.

(b) Package non-silver copies separately from the silver gelatin original or silver duplicate microform copy and clearly label them as non-silver copies.

(c) Include the following information on the transmittal (SF 135 for NARA records centers), or in an attachment to the transmittal. For records sent to an agency records center or commercial records storage facility, submit this information to NARA as part of the documentation required by § 1228.154(c)(2) of this chapter:

(1) Name of the agency and program component;

(2) The title of the records and the media/format used;

(3) The number or identifier for each unit of film;

(4) The security classification, if any;

(5) The inclusive dates, names, or other data identifying the records to be included on a unit of film;

(6) Finding aids that are not contained in the microform; and

(7) The inspection log forms and inspection reports required by § 1230.22(a) (5) and (6).

(d) Agencies may transfer permanent microform records to a records storage facility meeting the storage requirements in § 1230.20(a) (see § 1228.152(e)(3) of this chapter for NARA centers) only after the first inspection or with certification that the microforms will be inspected by the agency, an agency contractor, or a NARA records center (on a reimbursable basis) when the microforms become 2 years old.

§ 1230.30 How do agencies transfer permanent microform records to the legal custody of the National Archives?

(a) Follow the procedures in part 1228, subpart L, of this chapter and the additional requirements in this section.

(b) Originate the transfer by submitting an SF 258, Agreement to Transfer Records to the National Archives of the United States, unless otherwise instructed by NARA.

(c) If the records are not in a NARA records center, submit the information specified in § 1230.28(c).

(d) Transfer the silver gelatin original (or duplicate silver gelatin microform created in accordance with § 1230.14) plus one microform copy.

(e) Ensure that the inspection of the microform is up-to-date. If the microform records were recently produced, please note that NARA will not accession permanent microform records until the first inspection (when the microforms are 2 years old) has been performed.

(f) Package non-silver copies separately from the silver gelatin original or silver duplicate microform copy and clearly label them as non-silver copies.

Subpart E—Centralized Micrographic Services

§ 1230.50 What micrographic services are available from NARA?

Some NARA records centers provide reimbursable microfilming services, including preparing, indexing, and filming of records, inspection of film, and labeling of film containers. Agencies desiring microfilming services from NARA should contact the Office of Regional Records Services (NR), 8601 Adelphi Rd., College Park, MD 20740-6001, or the director of the NARA records center serving the agency's records (see § 1228.150(a) of this chapter). The fees for microfilming services will appear in NARA bulletins, which are available on NARA's web site at http://www.nara.gov/records/policy/bulletin.html or from the Modern Records Programs (NWM), 8601 Adelphi Road, College Park, MD 20740-6001.

Dated: April 23, 2002.
John W. Carlin,
Archivist of the United States.

[FR Doc. 02-10588 Filed 5-8-02; 8:45 am]

BILLING CODE 7515-01-U

Editorial Note: Due to a format error this document is being reprinted in its entirety. It was originally printed in the Federal Register on Thursday, May 9, 2002 at 67 FR 31692.

[FR Doc. R2-10588 Filed 5-13-02; 8:45 am]

BILLING CODE 1505-01-D